DEPARTMENT OF HEALTH AND HUMAN SERVICES

Meeting of the National Clinical Care Commission

AGENCY: Office of Disease Prevention and Health Promotion, Office of the Assistant Secretary for Health, Office of the Secretary, Department of Health and Human Services.

ACTION: Notice.

SUMMARY: The National Clinical Care Commission (the Commission) will conduct its fifth meeting on Friday, November 22, 2019. The Commission is charged to evaluate and make recommendations to the U.S. Department of Health and Human Services (HHS) Secretary and Congress regarding improvements to the coordination and leveraging of federal programs related to awareness and clinical care for complex metabolic or autoimmune diseases that result from issues related to insulin that represent a significant disease burden in the United States, which may include complications due to such diseases.

DATES: The meeting will take place on Friday, November 22, 2019, from 8:00 a.m. to approximately 4:00 p.m. Eastern Time (ET).

ADDRESSES: The public meeting will be held at the Bethesda North Marriott Hotel and Conference Center, 5701 Marinelli Rd., Rockville, MD 20852; 301-822-9200. The meeting will also be held online via webcast. To pre-register to attend the meeting, please visit the registration website at https://events.kauffmaninc.com/events/nccc5/.

FOR FURTHER INFORMATION CONTACT: Linda Harris, Designated Federal Officer, National Clinical Care Commission, U.S. Department of Health and Human Services, Office of the Assistant Secretary for Health, Office of Disease Prevention and Health Promotion, 1101 Wootton Parkway, Suite 420, Rockville, MD 20852. Email: OHQ@hhs.gov.

SUPPLEMENTARY INFORMATION: The National Clinical Care Commission Act (Pub. L. 115-80) requires the HHS Secretary to establish the National Clinical Care Commission. The Commission consists of representatives of specific federal agencies and non-federal individuals and entities who represent diverse disciplines and views. The Commission will evaluate and make recommendations to the HHS Secretary and Congress regarding improvements to the coordination and leveraging of federal programs related to awareness and clinical care for complex metabolic or autoimmune diseases that result from issues related to insulin that represent a significant disease burden in the United States, which may include complications due to such diseases. During this fifth meeting, the Commission will hear from informants from selected federal agencies about programs related to diabetes prevention, treatment and discuss potential topics for the Commission's final report. The final meeting agenda will be available prior to the meeting at https://health.gov/hcq/national-clinical-care-commission.asp.

Public Participation at Meeting: The Commission invites public comment on issues related to the Commission's charge either in-person at the meeting or in writing. In-person attendees who plan to provide oral comments at the Commission meeting during a designated time must submit their comments to OHQ@hhs.gov on or before November 15, 2019 and must check-in on-site. To accommodate as many individuals as possible, the time for each comment will be limited to three minutes. If more requests are received than can be accommodated, speakers will be randomly selected. The nature of the comments will not be considered in making this selection.

Written comments are welcome throughout the entire development process of the Commission's recommendation and may be emailed to OHQ@hhs.gov, or by mail to the following address: Public Commentary, National Clinical Care Commission, 1101 Wootton Parkway, Suite 420, Rockville, MD 20852. Written comments should not exceed three pages in length. Individuals who need special assistance, such as sign language interpretation or other reasonable accommodations, should indicate the special accommodation when registering online or by notifying Jennifer Gillissen at jennifer.gillissen@kauffmaninc.com by November 15.

Authority: The National Clinical Care Commission is required under the National Clinical Care Commission Act (Pub. L. 115-80). The Commission is governed by provisions of the Federal Advisory Committee Act (FACA), Public Law 92-463, as amended (5 U.S.C., App.) which sets forth standards for the formation and use of federal advisory committees.

Dated: November 5, 2019.
Donald Wright,
Deputy Assistant Secretary for Health, Disease Prevention and Health Promotion.

[FR Doc. 2019-24636 Filed 11-12-19; 8:45 am]

BILLING CODE 4150-32-P